DEPARTMENT OF THE INTERIOR

Bureau of Land Management

[LLWO320000.L19900000.PO0000]

Renewal of Approved Information Collection

AGENCY: Bureau of Land Management, Interior.

ACTION: 60-Day notice and request for comments.

SUMMARY: In compliance with the Paperwork Reduction Act, the Bureau of Land Management (BLM) invites public comments on, and plans to request approval to continue, the collection of information that assists the BLM in preventing unnecessary or undue degradation of public lands by operations authorized by the mining laws, and in obtaining financial guarantees for the reclamation of public lands. The Office of Management and Budget (OMB) has assigned control number 1004-0194 to this information collection.

DATES: Please submit comments on the proposed information collection by April 26, 2016.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0194” regardless of the form of your comments.

FOR FURTHER INFORMATION CONTACT: Adam Merrill, at 202-912-7044. Persons who use a telecommunication device for the deaf may call the Federal Information Relay Service at 1-800-877-8339, to leave a message for Mr. Merrill.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The Following Information Pertains to This Request

Title: Surface Management Activities under the General Mining Law (43 CFR subpart 3809).

OMB Control Number: 1004-0194.

Summary: This collection of information enables the BLM to determine whether operators and mining claimants are meeting their responsibility to prevent unnecessary or undue degradation while conducting exploration and mining activities on public lands under the mining laws, including the General Mining Law (30 U.S.C. 22-54). It also assists the BLM in obtaining financial guarantees for the reclamation of public lands. This collection of information is found at 43 CFR subpart 3809 and in the forms listed below.

Frequency of Collection: On occasion.

Forms:

• Form 3809-1, Surface Management Surety Bond;

• Form 3809-2, Surface Management Personal Bond;

• Form 3809-4, Bond Rider Extending Coverage of Bond to Assume Liabilities for Operations Conducted by Parties Other Than the Principal;

• Form 3809-5, Notification of Change of Operator and Assumption of Past Liability.

Description of Respondents: Operators and mining claimants.

Estimated Annual Responses: 1,495.

Estimated Annual Burden Hours: 183,808.

Estimated Annual Non-Hour Costs: $4,780 for notarizing Forms 3809-2 and 3809-4a.

The estimated burdens are itemized in the following table:

Type of response and 43 CFR citation | Number of responses | Hours per response | Total hours (Column B × Column C)
A | B | C | D
Initial or Extended Plan of Operations (3809.11) | 49 | 320 | 15,680
Data for EIS (3809.401(c)) | 5 | 4,960 | 24,800
Data for Standard EA (3809.401(c)) | 15 | 890 | 13,350
Data for Simple Exploration EA (3809.401(c)) | 29 | 320 | 9,280
Modification of Plan of Operations (3809.430 and 3809.431) | 107 | 320 | 34,240
Data for EIS (3809.432(a) and 3809.401(c)) | 2 | 4,960 | 9,920
Data for Standard EA (3809.432(a) and 3809.401(c)) | 35 | 890 | 31,150
Data for Simple Exploration EA (3809.432(a) and 3809.401(c)) | 70 | 320 | 22,400
Notice of Operations (3809.21) | 396 | 32 | 12,672
Modification of Notice of Operations (3809.330) | 167 | 32 | 5,344
Extension of Notice of Operations (3809.333) | 140 | 1 | 140
Surface Management Surety Bond, Form 3809-1 (3809.500) | 28 | 8 | 224
Surface Management Personal Bond, Form 3809-2 (3809.500) | 170 | 8 | 1,360
Bond Rider Extending Coverage of Bond, Form 3809-4 (3809.500) | 25 | 8 | 200
Surface Management Personal Bond Rider, Form 3809-4a (3809.500) | 69 | 8 | 552
Notification of Change of Operator and Assumption of Past Liability, Form 3809-5 (3809.116) | 52 | 8 | 416
Notice of State Demand Against Financial Guarantee (3809.573) | 1 | 8 | 8
Request for BLM Acceptance of Replacement Financial Instrument (3809.581) | 13 | 8 | 104
Request for Reduction in Financial Guarantee and/or BLM Approval of Adequacy of Reclamation (3809.590) | 78 | 8 | 624
Response to Notice of Forfeiture of Financial Guarantee (3809.596) | 13 | 8 | 104
Appeals to the State Director (3809.800) | 30 | 40 | 1200
Federal/State Agreements (3809.200) | 1 | 40 | 40
Totals | 1,495 |  | 183,808

Anna Atkinson,
Information Collection Clearance Officer, Bureau of Land Management.

[FR Doc. 2016-04173 Filed 2-25-16; 8:45 am]

BILLING CODE 4310-84-P